ENVIRONMENTAL PROTECTION AGENCY

[AMS-FRL-7375-6]

Control of Air Pollution From New Motor Vehicles; Low Sulfur Diesel Refinery Hardship Applications

AGENCY: Environmental Protection Agency (EPA).

ACTION: Notice; request for comments.

SUMMARY: In January 2001, EPA promulgated new emission standards for 2007 and later model year highway diesel engines as well as low-sulfur diesel requirements that begin in 2006 (66 FR 5002, January 18, 2001). That action included a provision which allows refiners to seek temporary relief from the regulations based on a showing of unusual circumstances that impose extreme hardship and significantly affect their ability to comply by the required date, as well as other factors. Through this document, we are informing the public that we have received applications from two refiners for hardship relief under these provisions.

The public is invited to provide input on this matter.

DATES: Comments should be provided by October 15, 2002.

ADDRESSES: Tad Wysor, U.S. EPA, National Vehicle and Fuels Emission Laboratory, Assessment and Standards Division, 2000 Traverwood, Ann Arbor MI 48105; e-mail wysor.tad@epa.gov.

FOR FURTHER INFORMATION CONTACT: Tad Wysor, at telephone (734) 214-4332, fax (734) 214-4816, e-mail wysor.tad@epa.gov.

SUPPLEMENTARY INFORMATION: In January 2001, EPA promulgated new emission standards for 2007 and later model year highway diesel engines as well as low-sulfur diesel requirements that begin in 2006 (66 FR 5002, January 18, 2001). That action included a provision which allows refiners to seek temporary relief from the regulations based on a showing of unusual circumstances that impose extreme hardship and significantly affect their ability to comply by the required date, as well as other factors. This provision also requires the refiners to make best efforts to comply with the low sulfur diesel fuel requirements (40 CFR 80.560).

Hardship applications were due to EPA by June 1, 2002. We have received applications from two refiners for hardship relief under the diesel sulfur program by that deadline, as presented in the following table.

Refinery | Refinery location(s) | Crude capacity (bpcd)*
Giant Industries, Inc | Yorktown, VA** | 59,000
Farmland Industries, Inc | Coffeyville, KS | 112,000
* Based on data from the Department of Energy's Energy Information Administration Petroleum Supply Annual 2001, Vol. 1 as of January 1, 2002.
** Giant also owns two refineries in New Mexico that are not the subject of its application.

We are now in the process of reviewing and evaluating these hardship applications according to the provisions of 40 CFR 80.270. Although the review and determination associated with these applications does not involve a rulemaking, we believe it is important to provide public notice of these applications and to provide opportunity for public comment. The applicants have requested that we treat most of the information in their applications as business proprietary “Confidential Business Information” under 40 CFR part 2.

Any party wishing to provide us input on these applicants in the context of 40 CFR 80.560 or to provide what they otherwise consider to be relevant materials should direct these to the contact person listed above by October 15, 2002. We will consider any relevant information provided in our evaluation of these applications.

Dated: September 3, 2002.
Robert Brenner,
Acting Assistant Administrator for Office of Air and Radiation.

[FR Doc. 02-23263 Filed 9-11-02; 8:45 am]

BILLING CODE 6560-50-P